INTERNATIONAL TRADE COMMISSION

[Investigation Nos. 701-TA-610 and 731-TA-1425-1426 (Final)]

Refillable Stainless Steel Kegs From China and Germany; Supplemental Schedule for the Final Phase of Anti-Dumping and Countervailing Duty Investigations

AGENCY: United States International Trade Commission.

ACTION: Notice.

DATES: October 30, 2019.

FOR FURTHER INFORMATION CONTACT: Celia Feldpausch (202) 205-2387, Office of Investigations, U.S. International Trade Commission, 500 E Street SW, Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its internet server (https://www.usitc.gov). The public record for these investigations may be viewed on the Commission's electronic docket (EDIS) at https://edis.usitc.gov. Effective June 4, 2019, the Commission established a general schedule for the conduct of the final phase of its investigations on refillable stainless steel kegs from China, Germany, and Mexico,¹ following preliminary determinations by the U.S. Department of Commerce (“Commerce”) that imports of refillable stainless steel kegs were being subsidized by the government of China,² and imports of refillable stainless steel kegs from China, Germany, and Mexico were being sold at less than fair value (LTFV) in the United States.³ Notice of the scheduling of the final phase of the Commission's investigations and of a public hearing to be held in connection therewith was given by posting copies of the notice in the Office of the Secretary, U.S. International Trade Commission, Washington, DC, and by publishing the notice in the Federal Register of June 17, 2019 (84 FR 28070). The hearing was held in Washington, DC, on August 14, 2019, and all persons who requested the opportunity were permitted to appear in person or by counsel. On August 19, 2019, Commerce issued a final affirmative determination with respect to imports of refillable stainless steel kegs from Mexico.⁴ The Commission issued its final affirmative determination regarding LTFV imports from Mexico on October 3, 2019 (84 FR 54174, October 9, 2019).

¹ 84 FR 28070 (June 17, 2019).

² 84 FR 13634 (April 5, 2019).

³ 84 25745 (June 4, 2019); 84 FR 25736 (June 4, 2019); and 84 FR 25738 (June 4, 2019).

⁴ 84 FR 42894 (August 19, 2019).

On October 24, 2019, Commerce issued its final affirmative determination that imports of refillable stainless steel kegs were being subsidized by the government of China,⁵ and imports of refillable stainless steel kegs from China and Germany were being sold at LTFV in the United States.⁶ Accordingly, the Commission currently is issuing a supplemental schedule for its antidumping and countervailing duty investigations on imports of refillable stainless steel kegs from China and Germany.

⁵ 84 FR 57005 (October 24, 2019).

⁶ 84 FR 57010 (October 24, 2019) and 84 FR 57008 (October 24, 2019).

This supplemental schedule is as follows: The deadline for filing supplemental party comments on Commerce's final antidumping and countervailing duty determinations is November 8, 2019. Supplemental party comments may address only Commerce's final antidumping and countervailing duty determinations regarding imports of refillable stainless steel kegs from China and Germany. These supplemental final comments may not contain new factual information and may not exceed five (5) pages in length. The supplemental staff report in the final phase of these investigations regarding subject imports from China and Germany will be placed in the nonpublic record on November 18, 2019; and a public version will be issued thereafter.

For further information concerning these investigations see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Authority: These investigations are being conducted under authority of title VII of the Tariff Act of 1930; this notice is published pursuant to section 207.21 of the Commission's rules.

By order of the Commission.

Issued: October 31, 2019.
Lisa Barton,
Secretary to the Commission.

[FR Doc. 2019-24179 Filed 11-5-19; 8:45 am]

BILLING CODE 7020-02-P